SECURITIES AND EXCHANGE COMMISSION

Proposed Collections; Comment Request

Upon written request, copies available from: Securities and Exchange Commission, Office of Filings and Information Services, Washington, DC 20549.

Extensions:

Form T-6; OMB Control No. 3235-0391; SEC File No. 270-344.

Form 11-K; OMB Control No. 3235-0082; SEC File No. 270-101.

Form 144; OMB Control No. 3235-0101; SEC File No. 270-112.

Notice is hereby given that pursuant to the Paperwork Reduction Act of 1995 (44 U.S.C. 3501 et seq.) the Securities and Exchange Commission (“Commission”) is soliciting comments on the collections of information summarized below. The Commission plans to submit these existing collections of information to the Office of Management Budget for extension and approval.

Form T-6 (17 CFR 269.9) is a statement of eligibility and qualification for a foreign corporate trustee under the Trust Indenture Act of 1939 (15 U.S.C. 77aaa et seq.). Form T-6 provides the basis for determining if a trustee is qualified. Form T-6 takes approximately 17 burden hours per response and is filed by 1 respondent. We estimate that 25% of the 17 total burden hours (4 hours) is prepared by the filer. The remaining 75% of burden hours is prepared by outside counsel.

Form 11-K (17 CFR 249.311) is the annual report designed for use by employee stock purchase, savings and similar plans. Form 11-K provides employees with financial information so that they can assess the performance of the investment vehicle in which their money is invested. Form 11-K takes approximately 30 burden hours per response and is filed by 2,000 respondents for total of 60,000 burden hours.

Form 144 (17 CFR 239.144) is used to report the sale of securities during any three-month period that exceeds 500 shares or other units or has an aggregate sales price in excess of $10,000. Form 144 operates in conjunction with Rule 144. Form 144 takes approximately 2 burden hours per response and is filed by 60,500 respondents for a total of 121,000 total burden hours.

Written comments are invited on: (a) Whether these proposed collections of information are necessary for the proper performance of the functions of the agency, including whether the information will have practical utility; (b) the accuracy of the agency's estimate of the burden imposed by the collections of information; (c) ways to enhance the quality, utility, and clarity of the information collected; and (d) ways to minimize the burden of the collections of information on respondents, including through the use of automated collection techniques or other forms of information technology. Consideration will be given to comments and suggestions submitted in writing within 60 days of this publication.

Please direct your written comments to R. Corey Booth, Director/Chief Information Officer, Securities and Exchange Commission, C/O Shirley Martinson, 6432 General Green Way, Alexandria, Virginia 22312, or send an e-mail to: PRA_Mailbox@sec.gov.

July 14, 2006.
Nancy M. Morris,
Secretary.

[FR Doc. E6-11790 Filed 7-24-06; 8:45 am]

BILLING CODE 8010-01-P